DEPARTMENT OF AGRICULTURE

Food and Nutrition Service

Agency Information Collection Activities: Proposed Collection; Comments Request—Study of Organizations Providing or Administering SNAP Incentives at Farmers' Markets

AGENCY: Food and Nutrition Service, USDA.

ACTION: Notice.

SUMMARY: In accordance with the Paperwork Reduction Act of 1995, this notice invites the public and other public agencies to comment on this proposed information collection. This is a revision to a previous data collection to understand better the shopping patterns of SNAP participants at farmers' markets. The purpose of this collection is for the Food and Nutrition Service to understand how private organizations operate Supplemental Nutrition Assistance Program (SNAP) financial incentive programs for clients purchasing fruits and vegetables at farmers' markets. Information collected will be used to examine how these organizations design, operate, and evaluate incentive programs to encourage SNAP clients to shop for fruits and vegetables at farmers' markets. It will also assist in assessing how much these programs influence the purchase of fruits and vegetables at farmers' markets using SNAP benefits.

DATES: Written comments must be received on or before April 16, 2012.

ADDRESSES: Comments are invited on: (a) Whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including the use of appropriate automated, electronic, mechanical, or other technological collection techniques or other forms of information technology.

Comments may be sent to: Steven Carlson, Office of Research and Analysis, Food and Nutrition Service/USDA, 3101 Park Center Drive, Room 1014, Alexandria, VA 22302. Comments may also be submitted via fax to the attention of Steven Carlson at 703-305-2576 or via email to Steve.Carlson@fns.usda.gov. Comments will also be accepted through the Federal eRulemaking Portal. Go to http://www.regulations.gov and follow the online instructions for submitting comments electronically.

All written comments will be open for public inspection at the Office of Research and Analysis, Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Steven Carlson at 703-305-2017.

SUPPLEMENTARY INFORMATION:

Title: Study of Organizations Providing or Administering SNAP Incentives at Farmers' Markets.

OMB Number: 0584-0564.

Expiration Date of Approval: November 30, 2014.

Abstract: The USDA, Food and Nutrition Service (FNS), is undertaking initiatives to improve access to healthy foods among nutrition assistance program participants. Among these are steps to support access to fresh fruits and vegetables through farmers' markets. The overall objective of this collection is to understand how private organizations provide and administer financial incentives for SNAP participants shopping at farmers' markets. In addition, this collection aims to assess how well these incentive programs work concerning the purchase of fresh fruits and vegetables at farmers' markets by SNAP participants. The two main study objectives are to: (1) Describe and compare how private organizations design, operate, and evaluate incentive program for SNAP clients at farmers' markets; and (2) describe and compare the performance, outcomes and/or impacts of each incentive program for SNAP clients operated during 2012 based upon the FNS SNAP Anti-Fraud Locator for EBT Redemption Transactions (ALERT) data and incentive organization self-evaluation data.

This study is not intended to be nationally representative. Organizations to be included in this study will be chosen from a list of private organizations that is developed based on responses received from farmers' market managers responding to the FNS study, Nutrition Assistance in Farmers' Markets: Understanding Current Operations (76 FR 79646, 12/22/11). To assist in the selection process, the list will tentatively categorize the organizations (Business-for and not-for-profit) into three groups:

(1) Type I: fairly large organizations that provide grant money to other organizations that administer incentive program for SNAP clients;

(2) Type II: smaller than the Type I organizations, Type II organizations distribute the SNAP financial incentives to farmers' markets and administer the incentive program for SNAP clients in the markets that they support; and

(3) Type III: local organizations that provide money for incentive program for SNAP clients.

Further stratification of the frame may be made based on whether the organizations also provide non-financial support. Non-financial support might include providing information and technical assistance for implementing or managing incentive program for SNAP clients or providing staff to work at the farmers' markets and assist with the management of the programs onsite.

There are two main data collection activities for this study. They include:

• Conducting a telephone interview with each of one to three key staff at selected organizations that provide and/or administer farmers' market SNAP incentives. The interview is designed to gather qualitative data to better understand the:

○ Relationship of the organizations to the farmers' markets that obtain incentive funds for SNAP clients;

○ Primary mission of the organizations and their history with SNAP;

○ Source of the financial support for the organizations' incentive program for SNAP clients, and whether other types of support are offered;

○ Number of markets a specific organization supported in 2012;

○ Selection process and requirements for farmers' markets to be awarded incentive dollars for distribution to SNAP clients;

○ Factors that make it difficult to implement and manage incentive programs; and

○ Characteristics of successful incentive programs.

The telephone interview will also capture information on whether the organizations maintain and/or collect information on the performance of their incentive program. This self-evaluation data may include information regarding the number of incentives redeemed by markets with an incentive program, vendor satisfaction with the program, and/or data used for assessing the impact of these programs on farmers' market sales and SNAP participation at farmers' markets.

• Collecting and evaluating self-evaluation data of participating organizations. Organizations identified during the telephone interviews as maintaining data on their incentive program for SNAP clients will be asked to share this data for the purpose of this research study. Self-evaluation data shared by organizations may include for example, the number of other organizations or farmers' markets that they awarded or are managing financial incentive programs for, the volume of SNAP incentive redemptions, dollar amount of unredeemed incentives, and other information. These data will help identify differences across incentive programs with respect to performance in 2012. In combination, the self-evaluation data, organizational and incentive program characteristics obtained through interviews, and ALERT data, will inform how such incentive programs for SNAP clients may work best in the context of individual markets.

Affected Public: Respondent groups identified include individuals working for organizations (Businesses for- and not for-profit. Note: preliminary research suggests that all organizations in the sample will be not for-profit businesses. However, the study leaves open the possibility that some for-profit businesses will be part of the sample) that provide or administer financial incentives at farmers' markets for use with SNAP clients.

Estimated Number of Respondents: The total number of respondents is 225 individuals at 115 organizations. This includes up to 3 individuals working for each of the 15 Type I and 40 Type II organizations, and 1 individual at each of the 45 Type III organizations. Out of the 225 individuals, it is estimated that 10 percent from each type of organization, a total of 23 individual, invited to participate will refuse (2.5 Type I, 8 Type II, and 4.5 Type III organizations). If a selected organization refuses to participate, another similar organization will be selected as a replacement.

Estimated Number of Responses per Respondent: One time.

Estimated time per Response: For 110 individuals participating from Type I and II organizations, and 45 individuals from Type III organizations, the telephone interview will take 60 minutes (1 hour) to complete. For 55 participating individuals (the Type I and II organizational leaders), the telephone interview will take 20 minutes (0.33 hours) to complete. It is estimated that 23 organizational leaders (from 15 organizations) that refuse to participate will spend approximately 15 minutes (0.25 hours) on the telephone. Further, of the 90 organizations that participate and complete the telephone interviews, 80 organizations will agree to provide self-evaluation data for their programs. To provide the data, it will take 120 minutes (2.0 hours) of a staff member's time (1 from each organization). For the 10 organizations that elect not to share their self-evaluation data, it will take 30 minutes (0.50) hours of a staff member's time (1 from each organization).

Estimated Total Annual Burden on Respondents: 341.9 hours.

Affected Public | Respondent | Estimated number of respondents | Responses annually per respondent | Total annual responses | Estimated average number of hours per response | Estimated total annual hours of response burden
Business (for/not-for-profit) | Type I Organization
| Telephone Interviews
| Leaders Completed | 15 | 1 | 15 | 0.33 | 4.95
| Leaders Non-response | 2.5 | 1 | 2.5 | 0.25 | 0.625
| Staff * | 30 | 1 | 30 | 1.00 | 30.00
| Subtotal Type I | 45 | 1 | 47.5 |  | 35.575
| Type II Organization
| Telephone Interviews
| Leaders Completed | 40 | 1 | 40 | 0.33 | 13.2
| Leaders Non-response | 8 | 1 | 8 | 0.25 | 2
| Staff * | 80 | 1 | 80 | 1.00 | 80
| Subtotal Type II | 120 | 1 | 128 |  | 95.2
| Type III Organization
| Telephone Interviews
| Leaders or Staff Completed | 45 | 1 | 45 | 1.00 | 45
| Leaders or Staff Non-response | 4.5 | 1 | 4.5 | 0.25 | 1.125
| Subtotal Type III | 45 | 1 | 49.5 |  | 46.125
| GRAND TOTAL | 210 |  | 225 |  | 176.9
| Provision of Organizational Self-Evaluation Data
| Type I, II, and III Organizations
| Number of Organizations Providing Self-Evaluation Data | 80 | 1 | 80 | 2.00 | 160
| Number of Organizations that Refuse to Provide Self-Evaluation Data | 10 | 1 | 10 | 0.50 | 5
| Total | 90 | 1 | 90 |  | 165
* 100% response anticipated for this group.

Dated: February 7, 2012.
Audrey Rowe,
Administrator,
Food and Nutrition Service.

[FR Doc. 2012-3619 Filed 2-15-12; 8:45 am]

BILLING CODE 3410-30-P